DEPARTMENT OF HOMELAND SECURITY

Coast Guard

33 CFR Part 117

[Docket No. CGD07-07-203]

Drawbridge Operation Regulations; Gulf Intracoastal Waterway, Pinellas County, FL

AGENCY: Coast Guard, DHS.

ACTION: Notice of temporary deviation from regulations.

SUMMARY: The Commander, Seventh Coast Guard District, has issued a temporary deviation from the regulation governing the operation of the Welch Causeway/Tom Stuart (SR 666) Bridge across the Gulf Intracoastal Waterway, mile 122.8, at Madeira Beach, Pinellas County, Florida. This deviation is necessary to expedite repairs to the Welch Causeway Bridge. This deviation allows the bridge to open a single-leaf only with double-leaf openings available upon three hours notice to the bridge tender.

DATES: This deviation is effective from 7 a.m. on September 19, 2007 through 5 p.m. on November 30, 2007.

ADDRESSES: Materials referred to in this document are available for inspection or copying at Commander (dpb), Seventh Coast Guard District, 909 S.E. 1st Avenue, Room 432, Miami, Florida 33131 between 7 a.m. and 4 p.m., Monday through Friday, except Federal holidays. The telephone number is (305) 415-6744. The Seventh Coast Guard District Bridge Branch maintains the public docket for this temporary deviation.

FOR FURTHER INFORMATION CONTACT: Mr. Michael Lieberum, Bridge Branch, (305) 415-6744 or e-mail Michael.b.lieberum@uscg.mil.

SUPPLEMENTARY INFORMATION: Coastal Marine Construction has requested a deviation from the regulation published in 33 CFR 117.287(l) that states “the draw of the Welch Causeway (SR 699) bridge, mile 122.8 at Madeira Beach shall open on signal * * *”

A deviation from the aforementioned schedule in 33 CFR 117.287(l) is necessary for worker safety and to expedite repairs to the Welch Causeway Bridge. This deviation will remain in effect from 7 a.m. on September 19, 2007 through 5 p.m. on November 30, 2007.

The Welch Causeway/Tom Stuart Bridge will open a single-leaf only on the hour and half-hour. A double-leaf opening will be available so long as a three hour notice to the bridge tender is provided. Vessels in any situation that endangers life or property will be allowed to pass through the bridge on signal.

In accordance with 33 CFR 117.35, the drawbridge must return to its regular operating schedule on November 30, 2007.

Dated: August 30, 2007.
Greg Shapley,
Chief, Bridge Administration, Seventh Coast Guard District.

[FR Doc. E7-18403 Filed 9-18-07; 8:45 am]

BILLING CODE 4910-15-P